ENVIRONMENTAL PROTECTION AGENCY

[OPPTS-51945; FRL-6558-7]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from March 20, 2000 to April 7, 2000, consists of the PMNs, both pending or expired, and the notices of commencement to manufacture a new chemical that the Agency has received under TSCA section 5 during this time period.

ADDRESSES: Comments may be submitted by mail, electronically, or in person. Please follow the detailed instructions for each method as provided in Unit I. of the “SUPPLEMENTARY INFORMATION.” To ensure proper receipt by EPA, it is imperative that you identify docket control number OPPTS-51945 and the specific PMN number in the subject line on the first page of your response.

FOR FURTHER INFORMATION CONTACT: Barbara Cunningham, Director, Office of Program Management, and Evaluation, Office of Pollution Prevention and Toxics (7401), Office of Pollution Prevention and Toxics, Environmental Protection Agency, Ariel Rios Bldg., 1200 Pennsylvania Ave., NW., Washington, DC 20460; telephone numbers: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under “FOR FURTHER INFORMATION CONTACT.”

B. How Can I Get Additional Information, Including Copies of this Document and Other Related Documents?

1. Electronically. You may obtain copies of this document and certain other available documents from the EPA Internet Home Page at http://www.epa.gov/. On the Home Page select “Laws and Regulations” and then look up the entry for this document under the “Federal Register—Environmental Documents.” You can also go directly to the “Federal Register” listings at http://www.epa.gov/fedrgstr/.

2. In person. The Agency has established an official record for this action under docket control number OPPTS-51945. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51945 and the specific PMN number in the subject line on the first page of your response.

1. By mail. Submit your comments to: Document Control Office (7407), Office of Pollution Prevention and Toxics (OPPT), Environmental Protection Agency, Ariel Rios Bldg., 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51945 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under “FOR FURTHER INFORMATION CONTACT.”

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from March 20, 2000 to April 7, 2000, consists of the PMNs, both pending or expired, and the notices of commencement to manufacture a new chemical that the Agency has received under TSCA section 5 during this time period.

III. Receipt and Status Report for PMNs

This status report identifies the PMNs, both pending or expired, and the notices of commencement to manufacture a new chemical that the Agency has received under TSCA section 5 during this time period. If you are interested in information that is not included in the following tables, you may contact EPA as described in Unit II. to access additional non-CBI information that may be available.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 73 Premanufacture Notices Received From: 03/20/00 to 04/07/00
Case No. | Received Date | Projected Notice End Date | Manufacturer/Importer | Use | Chemical
P-00-0633 | 03/20/00 | 06/18/00 | CBI | (G) Polymer for contained commercial/industrial use (incorporated into an article) | (G) 2-propenoic acid, polymer with butyl 2-propenoate, n-(1,1-dimethyl-3-oxobutyl)-2-propenamide,2-methoxy-2-substituted-ethyl 2-propenoate and methyl 2-methyl-2-propenoate
P-00-0634 | 03/20/00 | 06/18/00 | CBI | (G) Associative monomer for use in polymers for thickening aqueous systems | (G) Vinyl modified non-ionic surfactant
P-00-0635 | 03/20/00 | 06/18/00 | Eastman Chemical Company | (G) Chemical intermediate, industrial chemical additive | (S) 1,3-dioxolan-2-one, 4-ethenyl*
P-00-0636 | 03/21/00 | 06/19/00 | CBI | (G) Polymerization inhibitor | (G) Alkylated nitroso-phenylenediamine
P-00-0637 | 03/22/00 | 06/20/00 | CBI | (G) Destructive use | (G) Substituted alkyl salt of halogentated organoborate
P-00-0638 | 03/22/00 | 06/20/00 | CBI | (G) Destructive use | (G) Alkali metal salt of halogenated organoborate
P-00-0639 | 03/21/00 | 06/19/00 | CBI | (S) Resin for coatings | (G) Polyether functional acrylic polymer
P-00-0640 | 03/20/00 | 06/18/00 | CBI | (G) Interior and exterior wall and trim paints | (G) Alkyd emulsion
P-00-0641 | 03/20/00 | 06/18/00 | CBI | (S) Textile emulsifier | (S) Alcohols, C¹⁶⁻²⁰-branched, ethoxylated*
P-00-0642 | 03/20/00 | 06/18/00 | CBI | (S) Textile emulsifier | (S) Alcohols, C¹⁶⁻²⁰-branched, propoxylated*
P-00-0643 | 03/20/00 | 06/18/00 | CBI | (S) Textile emulsifier | (S) Alcohols, C¹⁶⁻²⁰-branched, ethoxylated propoxylated*
P-00-0645 | 03/22/00 | 06/20/00 | CBI | (G) Acrylic adhesive or coating | (G) Acrylic
P-00-0646 | 03/21/00 | 06/19/00 | CBI | (G) Component of a primer product | (G) Silane coupling agent
P-00-0647 | 03/22/00 | 06/20/00 | CBI | (G) Printing ink resin | (G) Fatty acids, tall -oil, polymers with diamine, 5 (or 6) -carboxy-4-hexyl-2-cyclohexene-1-octanoic acid, fumaric acid, polyol, maleic anhydride, pentaerythritol and rosin)
P-00-0648 | 03/23/00 | 06/21/00 | CBI | (G) Industrial Structural Adhesive | (G) Polyester polyol polyurethane
P-00-0649 | 03/20/00 | 06/18/00 | CBI | (S) Textile emulsifier | (S) Poly(oxy-1,2-ethanediyl), α-(2-butyloctyl)-omega-hydroxy-*
P-00-0650 | 03/20/00 | 06/18/00 | CBI | (S) Textile emulsifier | (S) Poly[oxy(methyl-1,2-ethanediyl)], α-(2-butyloctyl)-omega-hydroxy-*
P-00-0651 | 03/20/00 | 06/18/00 | CBI | (S) Textile emulsifier | (S) Oxirane, methyl-, polymer with oxirane, mono(2-butyloctyl) ether*
P-00-0652 | 03/20/00 | 06/18/00 | CBI | (S) Textile emulsifier | (S) Poly(oxy-1,2-ethanediyl), α-(2-hexyldecyl)-omega-hydroxy-*
P-00-0653 | 03/20/00 | 06/18/00 | CBI | (S) Textile emulsifier | (S) Poly[oxy(methyl-1,2-ethanediyl)], α-(2-hexyldecyl)-omega-hydroxy-*
P-00-0654 | 03/20/00 | 06/18/00 | CBI | (S) Textile emulsifier | (S) Oxirane, methyl-, polymer with oxirane, mono(2-hexyldecyl) ether*
P-00-0655 | 03/27/00 | 06/25/00 | CBI | (S) Coatings;adhesives | (G) Aromatic urethane
P-00-0656 | 03/28/00 | 06/26/00 | Bedoukian Research, Inc. | (S) Chemical intermediate for flavor/fragrance product (FFDCA); chemical intermediate for fragrance used in soaps, detergents, air fresheners, scented papers etc.) | (G) Alkenyl ester
P-00-0657 | 03/27/00 | 06/25/00 | CBI | (G) Thickener for aqueous cleaning solutions and highly filled latex compounds | (G) Styrene acrylic emulsion polymer
P-00-0658 | 03/27/00 | 06/25/00 | CBI | (G) Thickener for aqueous cleaning solutions and highly filled latex compounds | (G) Styrene acrylic emulsion polymer
P-00-0659 | 03/27/00 | 06/25/00 | CBI | (G) Thickener for aqueous cleaning solutions and highly filled latex compounds | (G) Styrene acrylic emulsion polymer
P-00-0660 | 03/27/00 | 06/25/00 | CBI | (G) Thickener for aqueous cleaning solutions and highly filled latex compounds | (G) Styrene acrylic emulsion polymer
P-00-0661 | 03/27/00 | 06/25/00 | Lyondell Chemical Company | (G) Polyol to be used as a flexibilizer, monomer, or reactive diluent in resins for use in coatings, inks, sealants, elastomers, adhesives, and related applications | (G) Alkoxylated phenolic resins
P-00-0662 | 03/27/00 | 06/25/00 | Lyondell Chemical Company | (G) Polyol to be used as a flexibilizer, monomer, or reactive diluent in resins for use in coatings, inks, sealants, elastomers, adhesives, and related applications | (G) Alkoxylated phenolic resins
P-00-0663 | 03/27/00 | 06/25/00 | Lyondell Chemical Company | (G) Polyol to be used as a flexibilizer, monomer, or reactive diluent in resins for use in coatings, inks, sealants, elastomers, adhesives, and related applications | (G) Alkoxylated phenolic resins
P-00-0664 | 03/27/00 | 06/25/00 | Lyondell Chemical Company | (G) Polyol to be used as a flexibilizer, monomer, or reactive diluent in resins for use in coatings, inks, sealants, elastomers, adhesives, and related applications | (G) Alkoxylated phenolic resins
P-00-0665 | 03/27/00 | 06/25/00 | Lyondell Chemical Company | (G) Polyol to be used as a flexibilizer, monomer, or reactive diluent in resins for use in coatings, inks, sealants, elastomers, adhesives, and related applications | (G) Alkoxylated phenolic resins
P-00-0666 | 03/27/00 | 06/25/00 | Lyondell Chemical Company | (G) Polyol to be used as a flexibilizer, monomer, or reactive diluent in resins for use in coatings, inks, sealants, elastomers, adhesives, and related applications | (G) Alkoxylated phenolic resins
P-00-0667 | 03/27/00 | 06/25/00 | CBI | (G) Additive for plastics | (G) Substituted biaryl aralkyl phosphite
P-00-0668 | 03/28/00 | 06/26/00 | Lyondell Chemical Company | (G) Polyol to be used as a flexibilizer, monomer, or reactive diluent in resins for use in coatings, inks, sealants, elastomers, adhesives, and related applications | (G) Alkoxylated phenolicresins
P-00-0669 | 03/28/00 | 06/26/00 | Lyondell Chemical Company | (G) Polyol to be used as a flexibilizer, monomer, or reactive diluent in resins for use in coatings, inks, sealants, elastomers, adhesives, and related applications | (G) Alkoxylated phenolicresins
P-00-0670 | 03/28/00 | 06/26/00 | Lyondell Chemical Company | (G) Polyol to be used as a flexibilizer, monomer, or reactive diluent in resins for use in coatings, inks, sealants, elastomers, adhesives, and related applications | (G) Alkoxylated phenolicresins
P-00-0671 | 03/28/00 | 06/26/00 | Lyondell Chemical Company | (G) Polyol to be used as a flexibilizer, monomer, or reactive diluent in resins for use in coatings, inks, sealants, elastomers, adhesives, and related applications | (G) Alkoxylated phenolicresins
P-00-0672 | 03/28/00 | 06/26/00 | Lyondell Chemical Company | (G) Polyol to be used as a flexibilizer, monomer, or reactive diluent in resins for use in coatings, inks, sealants, elastomers, adhesives, and related applications | (G) Alkoxylated phenolicresins
P-00-0673 | 03/28/00 | 06/26/00 | Lyondell Chemical Company | (G) Polyol to be used as a flexibilizer, monomer, or reactive diluent in resins for use in coatings, inks, sealants, elastomers, adhesives, and related applications | (G) Alkoxylated phenolicresins
P-00-0674 | 03/28/00 | 06/26/00 | CBI | (S) Resin for automotive coatings | (G) Modified carbamate acrylic polymer
P-00-0675 | 03/28/00 | 06/26/00 | CBI | (S) Resin for automotive coatings | (G) Modified carbamate acrylic polymer
P-00-0676 | 03/28/00 | 06/26/00 | CBI | (S) Resin for automotive coatings | (G) Modified carbamate acrylic polymer
P-00-0677 | 03/28/00 | 06/26/00 | CBI | (S) Resin for automotive coatings | (G) Modified carbamate acrylic polymer
P-00-0678 | 03/28/00 | 06/26/00 | CBI | (S) Resin for automotive coatings | (G) Modified carbamate acrylic polymer
P-00-0679 | 03/28/00 | 06/26/00 | CBI | (S) Resin for automotive coatings | (G) Modified carbamate acrylic polymer
P-00-0680 | 03/28/00 | 06/26/00 | CBI | (G) Finishing product for leather for surface cover | (G) Fatty acids, reaction products
P-00-0681 | 03/29/00 | 06/27/00 | BASF Corporation | (S) Fiber | (G) Isocyanate—functional polyester polyurethane
P-00-0682 | 03/29/00 | 06/27/00 | Reichhold, Inc. | (G) Additive for high solids coatings | (G) Amine modified phenolic polymer
P-00-0683 | 03/30/00 | 06/28/00 | CBI | (G) Polymer for contained commercial/industrial use (incorporated into an article) | (G) 2-propenoic acid, polymer with butyl 2-propenoate, n-(1,1-dimethyl-3-oxobutyl)-2-propenamide, 2-methoxy-2-substituted-ethyl 2-propenoate and methyl 2-methyl-2-propenoate*
P-00-0684 | 03/29/00 | 06/27/00 | CBI | (G) Additive for plastics | (G) Butadiene, alkyl acrylate, styrene co-polymer
P-00-0685 | 03/29/00 | 06/27/00 | CBI | (G) Additive for plastics | (G) Butadiene, alkyl acrylate, styrene co-polymer
P-00-0686 | 03/29/00 | 06/27/00 | CIBA Specialty Chemicals | (S) Hardener for water-based anti-corrosive coatings; hardener for water-based epoxy cement for civil engineering applic. | (G) Phenol,4,4′-(1-methylethylidene)bis-, polymers with aliphatic diamines, epichlorohydrin and polyethylene glycol
P-00-0687 | 03/31/00 | 06/29/00 | CBI | (S) (for inkjet printer)(coating agent) | (G) Polyetherurethane and polyurea copolymer
P-00-0688 | 03/30/00 | 06/28/00 | CBI | (G) Additive | (G) Diol
P-00-0689 | 03/30/00 | 06/28/00 | CBI | (G) Additive | (G) Diol
P-00-0690 | 03/30/00 | 06/28/00 | CBI | (G) Monomer and chemical intermediate | (G) Alkoxylated allyl methacrylate
P-00-0691 | 03/31/00 | 06/29/00 | CBI | (G) Open, non-dispersive (auxillary) | (G) Modified polyamidecarboxylic acid
P-00-0692 | 04/03/00 | 07/02/00 | CBI | (S) Vehicle of paints on tpo sheet (for car interior construction) | (G) Aliphatic polyurethane
P-00-0693 | 04/03/00 | 07/02/00 | CBI | (S) Polymer adduct for adhesive uses | (G) Epoxy -nitrile rubber adduct
P-00-0694 | 04/03/00 | 07/02/00 | CBI | (G) Open non-dispersive (resin) | (G) Hydrophilic aliphatic polyisocyanate
P-00-0695 | 04/03/00 | 07/02/00 | CBI | (S) Component of fire fighting foam | (G) Perfluoroalkylated polyamino acid
P-00-0696 | 04/04/00 | 07/03/00 | CBI | (G) Paper dye | (G) Sulfonated disazo dyestuff
P-00-0697 | 04/04/00 | 07/03/00 | CBI | (G) Paper dye | (G) Sulfonated disazo dyestuff
P-00-0698 | 04/04/00 | 07/03/00 | CBI | (G) Paper dye | (G) Lithium salt of a benzenoid stilbene/azo dyestuff
P-00-0699 | 04/06/00 | 07/05/00 | CBI | (G) Multi-purpose adhesive (open, non-dispersive use); laminating adhesive (open, non-dispersive use); edgebanding adhesive (open, non-dispersive use) | (G) Polyurethane prepolymer;polyurethane adhesive
P-00-0700 | 04/06/00 | 07/05/00 | CBI | (G) Ion exchange resin for water treatment | (G) Crosslinked copolymer of substituted polystyrene
P-00-0701 | 04/06/00 | 07/05/00 | Mitsui Chemicals America, Inc. | (S) Mechanical parts of precision and industrial machine | (G) Polymide
P-00-0702 | 04/06/00 | 07/05/00 | CBI | (G) Plastics lubricant;vapor barrier;fertilizer additive; chemical intermediate; miscellaneous uses | (G) Olefin oligomers
P-00-0703 | 04/07/00 | 07/06/00 | CBI | (G) Component of a primer product | (G) Organosilicic compound
P-00-0704 | 04/06/00 | 07/05/00 | CBI | (S) Liquid dye for wet end and surface dyeing of paper | (G) Alkyldiamine, reaction products with halogenated heterocycle, amino-hydroxy-sulfonatedpolycycle, and trisubstituted heterocycle, compd. with substituted alkanoic acid
P-00-0705 | 04/07/00 | 07/06/00 | Poco, LLC | (S) Pesticide; canine external care products; equine external care products; fragrance additive | (S) Chamaecyparis lawsoniana, ext. (natural mixture distilled from the wood fiber of port orford cedar / chamaecyparis lawsoniana—continuation sheet page 8*
P-00-0706 | 04/07/00 | 07/06/00 | CBI | (S) Base fluid for hydraulic fluids; base fluid for engine lubricants | (G) Mixed polyol—glycerol fatty acid ester

In table II, EPA provides the following information (to the extent that such information is not claimed as CBI) on the Notices of Commencement to manufacture received:

II. 38 Notices of Commencement From: 03/20/00 to 04/07/00
Case No. | Received Date | Commencement/ Import Date | Chemical
P-00-0030 | 04/04/00 | 03/17/00 | (G) Modified polyacrylate
P-00-0064 | 03/29/00 | 02/27/00 | (G) Epoxy acrylate
P-00-0090 | 04/03/00 | 03/13/00 | (G) Hindered amine adduct
P-00-0094 | 04/03/00 | 03/30/00 | (G) Aromatic sulfonic acid dericative
P-00-0134 | 03/30/00 | 03/13/00 | (S) L-aspartic acid, n,n′-1,2-ethanediylbis-, trisodium salt*
P-00-0186 | 03/27/00 | 02/29/00 | (G) Perflourinated polyamine
P-00-0266 | 03/28/00 | 03/06/00 | (G) Acrylic acid, polymer with partial salt of acrylate ester
P-93-0549 | 04/03/00 | 03/22/00 | (S) Cas-index name: 1,4-dioxaspiro [4,5] decane-2-methanol, 9-methyl-6-(1-methylethyl)-
P-97-0957 | 04/07/00 | 03/20/00 | (G) Non-etherified phenolic resin
P-98-0677 | 03/21/00 | 02/25/00 | (G) Aqueous amine salt
P-98-0789 | 03/20/00 | 03/01/00 | (G) Polyester oligomer
P-98-1043 | 03/20/00 | 03/09/00 | (G) Substituted amino alkyl triazinyl benzenesulfonic acid derivative
P-99-0309 | 03/28/00 | 03/13/00 | (G) Substituted alkylphthalimide
P-99-0660 | 04/05/00 | 03/21/00 | (G) Acrylmodified polysiloxane
P-99-0786 | 03/27/00 | 03/21/00 | (G) Liquid cationic polymer
P-99-0864 | 04/04/00 | 03/24/00 | (G) Polyester urethane aqueous dispersion
P-99-0874 | 03/23/00 | 03/07/00 | (G) Modified polyvinyl alcohol
P-99-0899 | 03/28/00 | 03/21/00 | (G) Blocked diisocyanatohexane, homopolymer
P-99-1034 | 03/28/00 | 03/21/00 | (G) Hydrocarbon modified rosin resin
P-99-1043 | 03/30/00 | 03/22/00 | (G) Triazine derivative
P-99-1110 | 04/07/00 | 03/21/00 | (S) Alcohols, C12-14, ethers with polyethylene glycol mono-bu ether*
P-99-1111 | 04/07/00 | 03/21/00 | (S) Alcohols, C12-14, ethers with polyethylene-polypropylene glycol mono-me ether*
P-99-1112 | 04/07/00 | 03/21/00 | (S) Alcohols, C8-10 dimers, ethers with polyethylene glycol mono-bu ether*
P-99-1113 | 04/07/00 | 03/21/00 | (S) Poly(oxy-1,2-ethanediyl), α-butyl-omega-(octyloxy)-*
P-99-1193 | 04/04/00 | 03/22/00 | (G) Isocyanate terminated urethane polymer
P-99-1208 | 03/30/00 | 03/16/00 | (S) 1,3-butadiene, homopolymer, maleated, 2-[(2-methyl-1-oxo-2-propenyl)oxy]ethyl esters*
P-99-1210 | 04/04/00 | 03/16/00 | (S) 5-isoquinolinesulfonic acid*
P-99-1213 | 04/05/00 | 04/01/00 | (S) Gas oils (petroleum), vacuum, hydrocracked, hydroisomerized, hydrogenated, C10-25, branched*
P-99-1214 | 04/05/00 | 04/01/00 | (S) Gas oils (petroleum), vacuum, hydrocracked, hydroisomerized, hydrogenated, C15-30, branched, high viscosity index*
P-99-1215 | 04/05/00 | 04/01/00 | (S) Gas oils (petroleum), vacuum, hydrocracked, hydroisomerized, hydrogenated, C20-40, branched, high viscosity index*
P-99-1216 | 04/05/00 | 04/01/00 | (S) Gas oils (petroleum), vacuum, hydrocracked, hydroisomerized, hydrogenated, C25-55, branched, high viscosity index*
P-99-1229 | 04/07/00 | 03/16/00 | (G) Styrene-acrylonitrile-based polymer
P-99-1286 | 03/27/00 | 03/06/00 | (G) Condensation of an acrylic modified alkyd resin and urea resin
P-99-1291 | 04/03/00 | 03/22/00 | (G) Rosin modified fatty acids, tall-oil, polymer with glycerol, phenols, petroleum naphtha conc. maleic anhydride and petroleum distillates
P-99-1343 | 04/07/00 | 03/16/00 | (S) Propanoyl fluoride, 2,2,3,3-tetrafluoro-3-(trifluoromethoxy)-*
P-99-1382 | 03/20/00 | 02/18/00 | (G) Disubstituted fluorene
P-99-1383 | 03/20/00 | 03/03/00 | (G) Methane bridged bis(substituted cyclopentadiene)
P-99-1401 | 03/31/00 | 03/27/00 | (G) Salt of acidic polymers

List of Subjects

Environmental protection, Chemicals, Premanufacturer notices.

Dated: May 18, 2000.
Deborah A. Williams,
Acting Director, Information Management Division, Office of Pollution Prevention and Toxics.

[FR Doc. 00-15164 Filed 6-14-00; 8:45 am]

BILLING CODE 6560-50-F